DEPARTMENT OF ENERGY

Federal Energy Regulatory Commission

Combined Notice of Filings #1

Take notice that the Commission received the following electric rate filings:

Docket Numbers: ER12-2129-001.

Applicants: Midwest Independent Transmission System.

Description: 09-26-12 Schedule 1 Compliance Filing to be effective 8/28/2012.

Filed Date: 9/26/12.

Accession Number: 20120926-5060.

Comments Due: 5 p.m. ET 10/17/12.

Docket Numbers: ER12-2424-001.

Applicants: Public Service Company of New Mexico.

Description: Public Service Company of New Mexico submits tariff filing per 35: Compliance Filing to submit Title Page to be effective 10/7/2012.

Filed Date: 9/25/12.

Accession Number: 20120925-5172.

Comments Due: 5 p.m. ET 10/16/12.

Docket Numbers: ER12-2529-000.

Applicants: KODE Novus II, LLC.

Description: Supplement to Market-Based Rate Application of KODE Novus II, LLC under ER12-2529.

Filed Date: 9/26/12.

Accession Number: 20120926-5012.

Comments Due: 5 p.m. ET 10/10/12.

Docket Numbers: ER12-2682-000.

Applicants: Midwest Independent Transmission System Operator, Inc.

Description: The Midwest Independent Transmission System Operator, Inc. submits Pro Forma Tariff Sheets Including Proposed Module B-1 to the MISO Tariff.

Filed Date: 9/24/12.

Accession Number: 20120924-5182.

Comments Due: 5 p.m. ET 11/8/12.

Docket Numbers: ER12-2683-000.

Applicants: Entergy Operating Companies.

Description: Entergy Operating Companies submits Pro Forma Ancillary Services Tariff and Notice of Cancellation for Open Access Transmission Tariff.

Filed Date: 9/24/12.

Accession Number: 20120925-0201.

Comments Due: 5 p.m. ET 11/8/12.

Docket Numbers: ER12-2684-000.

Applicants: Southwestern Electric Power Company.

Description: SWEPCO-AECC Potter FA to be effective 8/31/2012.

Filed Date: 9/25/12.

Accession Number: 20120925-5158.

Comments Due: 5 p.m. ET 10/16/12.

Docket Numbers: ER12-2685-000.

Applicants: Meadow Creek Project Company LLC.

Description: Certificate of Concurrence to be effective 9/17/2012.

Filed Date: 9/25/12.

Accession Number: 20120925-5169.

Comments Due: 5 p.m. ET 10/16/12.

Docket Numbers: ER12-2686-000.

Applicants: Tucson Electric Power Company.

Description: RS No. 322, APS RS No. 260, Perrin Ranch LGIA, 0.0.0 to be effective 10/21/2011.

Filed Date: 9/25/12.

Accession Number: 20120925-5171.

Comments Due: 5 p.m. ET 10/16/12.

Docket Numbers: ER12-2687-000.

Applicants: Pacific Gas and Electric Company.

Description: Western WDT Amendment for Cost of Ownership and Meter Reading Charges to be effective 10/1/2012.

Filed Date: 9/26/12.

Accession Number: 20120926-5000.

Comments Due: 5 p.m. ET 10/17/12.

Docket Numbers: ER12-2688-000.

Applicants: Pacific Gas and Electric Company.

Description: KMPUD Engineering Agreement Amendment to be effective 9/27/2012.

Filed Date: 9/26/12.

Accession Number: 20120926-5002.

Comments Due: 5 p.m. ET 10/17/12.

Docket Numbers: ER12-2689-000.

Applicants: Hot Spring Power Company, LLC.

Description: Notice of Cancellation to be effective 9/27/2012.

Filed Date: 9/26/12.

Accession Number: 20120926-5021.

Comments Due: 5 p.m. ET 10/17/12.

Docket Numbers: ER12-2690-000.

Applicants: ISO New England Inc.,New England Power Pool Participants Comm.

Description: Wind Resource Dispatch Rules to be effective 12/1/2012.

Filed Date: 9/26/12.

Accession Number: 20120926-5030.

Comments Due: 5 p.m. ET 10/17/12.

Docket Numbers: ER12-2691-000.

Applicants: Alabama Power Company.

Description: AMEA NITSA Filing to be effective 9/1/2012.

Filed Date: 9/26/12.

Accession Number: 20120926-5082.

Comments Due: 5 p.m. ET 10/17/12.

Docket Numbers: ER12-2692-000.

Applicants: Simpson Tacoma Kraft Company, LLC.

Description: Amendment of Pending Filing 1 to be effective 8/7/2012.

Filed Date: 9/26/12.

Accession Number: 20120926-5086.

Comments Due: 5 p.m. ET 10/17/12.

Docket Numbers: ER12-309-005.

Applicants: Midwest Independent Transmission System Operator, Inc.

Description: 9-26-2012 Attachment X QR3 Compliance Filing to be effective 1/1/2012.

Filed Date: 9/26/12.

Accession Number: 20120926-5061.

Comments Due: 5 p.m. ET 10/17/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 26, 2012.
Nathaniel J. Davis, Sr.,
Deputy Secretary.

[FR Doc. 2012-24601 Filed 10-4-12; 8:45 am]

BILLING CODE 6717-01-P